DEPARTMENT OF COMMERCE

National Oceanic and Atmospheric Administration

[I.D. 091200A]

Submission For OMB Review; Comment Request.

The Department of Commerce has submitted to the Office of Management and Budget (OMB) for clearance the following proposal for collection of information under the provisions of the Paperwork Reduction Act (44 U.S.C. Chapter 35).

Agency: National Oceanic and Atmospheric Administration (NOAA).

Title: Observer Program for Catcher Vessels in the Pacific Coast Groundfish Fishery.

Form Number(s): None.

OMB Approval Number: None.

Type of Request: Regular submission.

Burden Hours: 3,451.

Number of Respondents: 2,116.

Average Hours Per Response: 5 minutes.

Needs and Uses: This data collection would require that a representative (owner, operator, or manager) for selected catcher vessels participating in the Pacific Coast Groundfish Fishery provide NMFS with notification at least 24 hours before departure for a fishing trip and notification when the vessel ceases to participate in the observed portion of the fleet. The information will be used to plan for fishery observer assignments.

Affected Public: Business and other for-profit organizations.

Frequency:On occasion.

Respondent's Obligation: Mandatory.

OMB Desk Officer: David Rostker, (202) 395-3897.

Copies of the above information collection proposal can be obtained by calling or writing Madeleine Clayton, Departmental Forms Clearance Officer, (202) 482-3129, Department of Commerce, Room 6086, 14th and Constitution Avenue, NW, Washington, DC 20230 (or via the Internet at MClayton@doc.gov).

Written comments and recommendations for the proposed information collection should be sent within 30 days of publication of this notice to David Rostker, OMB Desk Officer, Room 10202, New Executive Office Building, Washington, DC 20503.

Dated: September 8, 2000.
Gwellnar Banks,
Management Analyst, Office of the Chief Information Officer.

[FR Doc. 00-23808 Filed 9-14-00; 8:45 am]

BILLING CODE 3510-22-S